DEPARTMENT OF AGRICULTURE

Food Safety and Inspection Service

[Docket No. 02-030N]

Codex Alimentarius Commission: 21st Session of the Codex Committee on Processed Fruits and Vegetables

AGENCY: Food Safety and Inspection Service, USDA.

ACTION: Notice of public meeting, request for comments.

SUMMARY: The Office of the Under Secretary for Food Safety, United States Department of Agriculture (USDA), and the Agricultural Marketing Service (AMS), are sponsoring a public meeting on August 13, 2002, to provide information and receive public comments on agenda items that will be discussed at the Codex Committee on Processed Fruits and Vegetables (CCPFV), which will be held in San Antonio, Texas, on September 23-27, 2002. The Under Secretary and AMS recognize the importance of providing interested parties with information about the Processed Fruits and Vegetables Committee of the Codex Alimentarius Commission (Codex) and to address items on the Agenda for the 21st CCPFV.

DATES: The public meeting is scheduled for Tuesday, August 13, 2002 from 10:00 am to 12:00 noon.

ADDRESSES: The public meeting will be held in Room 3501 South Building, United States Department of Agriculture, 1400 Independence Avenue SW., Washington, DC. To receive copies of the documents referenced in this notice contact the FSIS Docket Clerk, U.S. Department of Agriculture, Food Safety and Inspection Service, Room 102, Cotton Annex, 300 12th Street, SW., Washington, DC 20250-3700. The documents will also be accessible via the World Wide Web at the following address: http://www.codexalimentarius.net/current.asp. If you have comments, please send an original and two copies to the FSIS Docket Clerk and reference Docket # 02-030N. All comments submitted will be available for public inspection in the Docket Clerk's office between 8:30 a.m. and 4:30 p.m., Monday through Friday.

FOR FURTHER INFORMATION CONTACT: Dr. William James, Acting Director, U.S. Codex Office, Food Safety and Inspection Service, Room 4861, South Building, 1400 Independence Avenue SW., Washington, DC 20250, Phone: (202) 205-7760, Fax: (202) 720-3157. Persons requiring a sign language interpreter or other special accommodations should notify Dr. James at the above number.

SUPPLEMENTARY INFORMATION:

Background

Codex was established in 1962 by two United Nations organizations, the Food and Agriculture Organization (FAO) and the World Health Organization (WHO). Codex is the major international organization for protecting the health and economic interests of consumers and encouraging fair international trade in food. Through adoption of food standards, codes of practice, and other guidelines developed by its committees, and by promoting their adoption and implementation by governments, Codex seeks to ensure that the world's food supply is sound, wholesome, free from adulteration, and correctly labeled. In the United States, USDA, FDA, and the Environmental Protection Agency manage and carry out U.S. Codex.

The Codex Committee on Processed Fruits and Vegetables elaborates world wide standards for various processed fruits and vegetables, including certain dried and canned products. This committee does not cover standards for fruit and vegetable juices. The Commission has also allocated to this Committee the work of revision of standards for quick frozen fruits and vegetables. The Committee is chaired by the United States of America.

Issues to Be Discussed at the Public Meeting

The provisional agenda items will be discussed during the public meeting:

1. Adoption of the Agenda

2. Matters Referred by the Codex Alimentarius Commission and other Codex Committees

3. Consideration of Codex Draft Revised Standards at Step 7

Canned Bamboo Shoots

Pickled Products

Canned Stone Fruits

Guidelines for Packing Media for Canned Fruits

Aqueous Coconut Products

4. Consideration of Proposed Draft Codex Standards at Step 4

(a.) Proposed Draft Code of Practice for the Processing and Handling of Quick Frozen Foods

(b.) Proposed Draft Codex Standards for Processed Fruits and Vegetables

Canned Citrus Fruits

Ginseng

Jams, Jellies and Marmalades

Soy Sauce

Canned Tomatoes

Processed Tomato Concentrates

Canned Vegetables

Guidelines for Packing Media for Canned Vegetables

5. Methods of Analysis for Processed Fruits and Vegetables

6. Proposals for Amendments to the Priority List for the Standardization of Processed Fruits and Vegetables

7. Other Business and Future Work

Each issue listed will be fully described in documents distributed, or to be distributed, by the United States' Secretariat to the Meeting. Members of the public may access or request copies of these documents (see ADDRESSES) .

Public Meeting

At the August 13th public meeting, the agenda items will be described, discussed, and attendees will have the opportunity to pose questions and offer comments. Comments may be sent to the FSIS Docket Room (see ADDRESSES). Written comments should state that they relate to activities of the 21st CCPFV (Docket # 02-030N).

Additional Public Notification

Public awareness of all segments of rulemaking and policy development is important. Consequently, in an effort to better ensure that minorities, women, and persons with disabilities are aware of this notice, FSIS will announce it and provide copies of this Federal Register publication in the FSIS Constituent Update. FSIS provides a weekly FSIS Constituent Update, which is communicated via fax to over 300 organizations and individuals. In addition, the update is available on-line through the FSIS web page located at http://www.fsis.usda.gov. The update is used to provide information regarding FSIS policies, procedures, regulations, Federal Register notices, FSIS public meetings, recalls, and any other types of information that could affect or would be of interest to our constituents/stakeholders. The constituent fax list consists of industry, trade, and farm groups, consumer interest groups, allied health professionals, scientific professionals, and other individuals that have requested to be included. Through these various channels, FSIS is able to provide information to a much broader, more diverse audience. For more information and to be added to the constituent fax list, fax your request to the Congressional and Public Affairs Office, at (202) 720-5704.

Done at Washington, DC, on: August 8, 2002.
F. Edward Scarbrough,
U.S. Manager for Codex Alimentarius.

[FR Doc. 02-20445 Filed 8-12-02; 8:45 am]

BILLING CODE 3410-DM-P